DEPARTMENT OF HEALTH AND HUMAN SERVICES

Centers for Disease Control and Prevention

[30Day-17-0733]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments should be received within 30 days of this notice.

Proposed Project

Early Hearing Detection and Intervention (EHDI) Follow-up Survey (OMB Control No. 0920-0733, Expiration Date: 8/31/2016)—Reinstatement with Change—National Center on Birth Defects and Developmental Disabilities (NCBDDD), Centers for Disease Control and Prevention (CDC).

Background and Brief Description

NCBDDD promotes the health of babies, children, and adults, with a focus on preventing birth defects and developmental disabilities and optimizing the health outcomes of those with disabilities. As part of these efforts NCBDDD is actively involved in addressing the early identification of hearing loss among newborns and infants. Congenital hearing loss is a common birth defect that affects 1 to 3 per 1,000 live births, or approximately 12,000 children across the United States annually. Studies have shown that children with a delayed diagnosis of hearing loss can experience preventable delays in speech, language, and cognitive development. To ensure children with hearing loss are identified as soon as possible, many states and United States (U.S.) territories have implemented Early Hearing Detection and Intervention (EHDI) programs and enacted laws related to infant hearing screening. The majority of these EHDI programs have adopted the “1-3-6” plan, which consists of three core goals: (1) Screening all infants for hearing loss before 1 month of age, (2) ensuring diagnostic audiologic evaluation before 3 months of age for those who do not pass the screening, and (3) enrollment in early intervention services before six months of age for those identified with hearing loss.

Federal support for identifying children with hearing loss began with the Children's Health Act of 2000, which authorized federal programs to support EHDI activities at the state level. Since then, funds have been distributed to states via cooperative agreements from the CDC and grants from the Health Resources and Services Administration (HRSA). States are using these federal monies to enhance EHDI programs and develop corresponding tracking and surveillance systems. These systems are intended to help EHDI programs ensure infants and children are receiving recommended hearing screening, follow-up, and intervention services.

The mission of the CDC EHDI team is for every state and U.S. territory to have a complete EHDI tracking and surveillance system that will help ensure infants and children with hearing loss achieve communication and social skills commensurate with their cognitive abilities. As part of this mission the CDC EHDI team, in collaboration with representatives of state and U.S. territorial EHDI programs, developed seven National EHDI Goals that reflect the “1-3-6 plan” and address integration with the medical home (coordinated care by a medical provider) and development of tracking and surveillance systems to minimize loss to follow-up and loss to documentation. Many of the defined performance indicators for these goals involve obtaining data related to the number of children screened for hearing loss, referred for and receiving follow-up testing (e.g., diagnostic audiologic evaluation) and enrolled in early intervention services.

The purpose of the revised survey is to obtain annual state data on the performance indicators in a consistent manner, which is needed to assess progress towards meeting the National EHDI goals. In addition, the availability of these data will better enable the CDC EHDI team to provide technical assistance to states and respond to questions by the general public, policy makers, and Healthy People 2020 officials.

Estimated Annualized Burden Hours
Type of respondents | Form name | Number of respondents | Number of responses per respondent | Average burden per response (in hours)
EHDI Program State Program Coordinators Contacted | Survey Directions | 59 | 1 | 10/60
EHDI Program State Program Coordinators who return the survey | Survey | 57 | 1 | 240/60

Leroy A. Richardson,
Chief, Information Collection Review Office, Office of Scientific Integrity, Office of the Associate Director for Science, Office of the Director, Centers for Disease Control and Prevention.

[FR Doc. 2017-03593 Filed 2-23-17; 8:45 am]

BILLING CODE 4163-18-P